DEPARTMENT OF THE INTERIOR

Fish and Wildlife Service

50 CFR Part 17

[Docket No. FWS-R2-ES-2016-0077; 4500030113]

RIN 1018-BB34

Endangered and Threatened Wildlife and Plants; Endangered Species Status for the Texas Hornshell

AGENCY: Fish and Wildlife Service, Interior.

ACTION: Proposed rule; reopening of comment period; public hearings.

SUMMARY: We, the U.S. Fish and Wildlife Service (Service), announce the reopening of the comment period for our August 10, 2016, proposed rule to list the Texas hornshell (Popenaias popeii) as an endangered species under the Endangered Species Act of 1973, as amended (Act). We also are notifying the public that we have scheduled informational meetings followed by public hearings on the proposed rule. Comments previously submitted on the proposal need not be resubmitted, as they are already incorporated into the public record and will be fully considered in our final determination.

DATES: Written comments: The comment period on the proposed rule that published August 10, 2016 (81 FR 52796), is reopened. We request that comments on the proposal be submitted on or before June 29, 2017. Comments submitted electronically using the Federal eRulemaking Portal (see ADDRESSES section, below) must be received by 11:59 p.m. Eastern Time on the closing date.

Public meetings and hearings: We will hold two public informational sessions and public hearings on the proposed listing rule:

(1) A public informational session from 5:00 p.m. to 6:00 p.m., followed by a public hearing from 6:30 p.m. to 8:30 p.m. on June 13, 2017, in Laredo, Texas (see ADDRESSES); and

(2) A public informational session from 5:00 p.m. to 6:00 p.m., followed by a public hearing from 6:30 p.m. to 8:30 p.m. on June 15, 2017, in Carlsbad, New Mexico (see ADDRESSES).

People needing reasonable accommodations in order to attend and participate in the public meetings should contact the Texas Coastal Ecological Services Field Office, at 281-286-8282, as soon as possible (see FOR FURTHER INFORMATION CONTACT). In order to allow sufficient time to process requests, please call no later than 1 week before the meeting date.

ADDRESSES: Document availability: You may obtain copies of the proposed rule and Species Status Assessment Report on the Internet at http://www.regulations.gov at Docket No. FWS-R2-ES-2016-0077, or by mail from the Texas Coastal Ecological Services Field Office (see FOR FURTHER INFORMATION CONTACT).

Written comments: You may submit comments by one of the following methods:

(1) Electronically: Go to the Federal eRulemaking Portal: http://www.regulations.gov. In the Search box, enter FWS-R2-ES-2016-0077. You may submit a comment by clicking on “Comment Now!”

(2) By hard copy: Submit by U.S. mail or hand-delivery to: Public Comments Processing, Attn: FWS-R2-ES-2016-0077; U.S. Fish and Wildlife Service Headquarters, MS: BPHC, 5275 Leesburg Pike, Falls Church, VA 22041-3803.

We request that you send comments only by the methods described above. We will post all comments on http://www.regulations.gov. This generally means that we will post any personal information you provide us (see the Information Requested section below for more information)

Public meetings and hearings: The public informational meetings will be held on the following dates and locations:

1. A public informational session from 5:00 p.m. to 6:00 p.m., followed by a public hearing from 6:30 p.m. to 8:30 p.m. at Student Center Ballroom #203, Texas A&M International University, 5201 University Blvd., Laredo, Texas 78041, on June 13, 2017.

2. A public informational session from 5:00 p.m. to 6:00 p.m., followed by a public hearing from 6:30 p.m. to 8:30 p.m. at the Pecos River Village Conference Center, 711 Muscatel Ave., Carlsbad, NM 88220, on June 15, 2017.

FOR FURTHER INFORMATION CONTACT: Chuck Ardizzone, U.S. Fish and Wildlife Service, Texas Coastal Ecological Services Field Office, 17629 El Camino Real #211, Houston, TX 77058; by telephone 281-286-8282; or by facsimile 281-488-5882. Persons who use a telecommunications device for the deaf (TDD) may call the Federal Relay Service at 800-877-8339.

SUPPLEMENTARY INFORMATION:

Information Requested

We intend that any final action resulting from this proposed rule will be based on the best scientific and commercial data available and be as accurate and as effective as possible. Therefore, we request comments or information from other concerned governmental agencies, Native American tribes, the scientific community, industry, or any other interested parties concerning this proposed rule. We particularly seek comments concerning:

(1) The Texas hornshell's biology, range, and population trends, including:

(a) Biological or ecological requirements of the species, including habitat requirements for feeding and spawning;

(b) Genetics and taxonomy;

(c) Historical and current range, including distribution patterns;

(d) Historical and current population levels, and current and projected trends; and

(e) Past and ongoing conservation measures for the species, its habitat, or both.

(2) Factors that may affect the continued existence of the species, which may include habitat modification or destruction, overutilization, disease, predation, the inadequacy of existing regulatory mechanisms, or other natural or manmade factors.

(3) Biological, commercial trade, or other relevant data concerning any threats (or lack thereof) to this species and existing regulations that may be addressing those threats.

(4) Additional information concerning the historical and current status, range, distribution, and population size of this species, including the locations of any additional populations of this species, particularly in Mexico.

(5) Information related to climate change within the range of the Texas hornshell and how it may affect the species' habitat.

(6) The reasons why areas should or should not be designated as critical habitat as provided by section 4 of the Act (16 U.S.C. 1531 et seq.)

(7) Specific information on:

(a) The amount and distribution of habitat for the Texas hornshell;

(b) What areas, that are currently occupied and that contain the physical and biological features essential to the conservation of the Texas hornshell, should be included in a critical habitat designation and why;

(c) Special management considerations or protection that may be needed for the essential features in potential critical habitat areas, including managing for the potential effects of climate change; and

(d) What areas not occupied at the time of listing are essential for the conservation of the species and why.

If you previously submitted comments or information on the August 10, 2016, proposed rule (81 FR 52796), please do not resubmit them. We have incorporated them into the public record, and we will fully consider them in our final determination. Our final determination concerning the proposed rulemaking will take into consideration all written comments and any information we receive.

Please note that submissions merely stating support for or opposition to the action under consideration without providing supporting information, although noted, will not be considered in making a determination, as section 4(b)(1)(A) of the Act directs that determinations as to whether any species is an endangered or threatened species must be made “solely on the basis of the best scientific and commercial data available.”

You may submit your comments and materials concerning the proposed rule by one of the methods listed in ADDRESSES. We request that you send comments only by the methods described in ADDRESSES. If you submit information via http://www.regulations.gov, your entire submission—including any personal identifying information—will be posted on the Web site. If your submission is made via a hardcopy that includes personal identifying information, you may request at the top of your document that we withhold this information from public review. However, we cannot guarantee that we will be able to do so. We will post all hardcopy submissions on http://www.regulations.gov. Please include sufficient information with your comments to allow us to verify any scientific or commercial information you include.

Comments and materials we receive, as well as supporting documentation we used in preparing the proposed rule, will be available for public inspection on http://www.regulations.gov, or by appointment, during normal business hours, at the U.S. Fish and Wildlife Service, Texas Coastal Ecological Services Field Office (see FOR FURTHER INFORMATION CONTACT). You may obtain copies of the proposed rule on the Internet at http://www.regulations.gov at Docket No. FWS-R2-ES-2016-0077, or by mail from the U.S. Fish and Wildlife Service, Texas Coastal Ecological Services Field Office (see FOR FURTHER INFORMATION CONTACT).

Background

On August 10, 2016, we published a proposed rule (81 FR 52796) to list the Texas hornshell as an endangered species under the Act. The publication of this proposed rule was pursuant to a court-approved settlement agreement (Endangered Species Act Section 4 Deadline Litigation, No. 10-377 (EGS), MDL Docket No. 2165 (D.D.C. May 10, 2011)). That proposal had a 60-day comment period, ending October 11, 2016. The Act and the relevant settlement agreement require that we publish a final listing determination for the Texas hornshell on or before August 10, 2017. For a description of previous Federal actions concerning the Texas hornshell, please refer to the August 10, 2016, proposed listing rule (81 FR 52796).

During the comment period for the proposed listing rule, we received several requests for public hearings. We are reopening the comment period on our proposal to list the Texas hornshell as an endangered species for 30 days (see DATES) to hold those public hearings and allow the public an opportunity to provide comments on our proposal.

Authority

The authority for this action is the Endangered Species Act of 1973, as amended (16 U.S.C. 1531 et seq.).

Dated: May 4, 2017.
James W. Kurth,
Acting Director, U.S. Fish and Wildlife Service.

[FR Doc. 2017-11189 Filed 5-26-17; 8:45 am]

BILLING CODE 4333-15-P